NUCLEAR REGULATORY COMMISSION

[Docket No. 50-443; NRC-2010-0206]

NextEra Energy Seabrook, LLC; Seabrook Station, Unit No. 1

AGENCY: Nuclear Regulatory Commission.

ACTION: License renewal and record of decision; issuance.

SUMMARY: The U.S. Nuclear Regulatory Commission (NRC) has issued Renewed Facility Operating License No. NPF-86 to NextEra Energy Seabrook, LLC (NextEra), Hudson Light & Power Department, Massachusetts Municipal Wholesale Electric Company, and Taunton Municipal Lighting Plant. Renewed Facility Operating License No. NPF-86 authorizes NextEra to operate Seabrook Station, Unit No. 1 (Seabrook) at reactor core power levels not in excess of 3,648 megawatts thermal, and in accordance with the provisions of the Seabrook renewed operating license and technical specifications. In addition, the NRC has prepared a record of decision (ROD) that supports the agency's decision to issue Renewed Facility Operating License No. NPF-86 authorizing operations at Seabrook for an additional 20 years.

DATES: The NRC issued Renewed Facility Operating License No. NPF-86 on March 12, 2019.

ADDRESSES: Please refer to Docket ID NRC-2010-0206 when contacting the NRC about the availability of information regarding this document. You may obtain publicly available information related to this document using any of the following methods:

• Federal Rulemaking Website: Go to http://www.regulations.gov and search for Docket ID NRC-2010-0206. Address questions about NRC dockets in Regulations.gov to Krupskaya Castellon; telephone: 301-287-9221; email: Krupskaya.Castellon@nrc.gov. For technical questions, contact the individual listed in the FOR FURTHER INFORMATION CONTACT section of this document.

• NRC's Agencywide Documents Access and Management System (ADAMS): You may obtain publicly available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, MD 20852.

FOR FURTHER INFORMATION CONTACT: William “Butch” Burton, Office of Nuclear Reactor Regulation, U.S. Nuclear Regulatory Commission, Washington, DC 20555-0001; telephone: 301-415-6332; email: William.Burton@nrc.gov.

SUPPLEMENTARY INFORMATION:

I. Introduction

The NRC hereby gives notice that it has issued Renewed Facility Operating License No. NPF-86 to NextEra Energy Seabrook, LLC (NextEra), Hudson Light & Power Department, Massachusetts Municipal Wholesale Electric Company, and Taunton Municipal Lighting Plant. Renewed Facility Operating License No. NPF-86 authorizes NextEra to operate Seabrook Station, Unit No. 1 (Seabrook) at reactor core power levels not in excess of 3,648 megawatts thermal, and in accordance with the provisions of the Seabrook renewed operating license and technical specifications.

The NRC ROD that supports the NRC's decision to issue Renewed Facility Operating License No. NPF-86 is available in ADAMS under Accession No. ML19002A160. The NRC documented its environmental review for the license renewal in the ROD and the final supplemental environmental impact statement (FSEIS) for the Seabrook license renewal, NUREG-1437, Supplement 46, “Generic Environmental Impact Statement for License Renewal of Nuclear Plants Regarding Seabrook Station, Final Report,” dated July 2015 (ADAMS Accession Nos. ML15209A575 and ML15209A870). As part of its environmental review, the NRC considered a range of reasonable alternatives to license renewal that included a natural gas-fired combined-cycle (NGCC) alternative, a new nuclear alternative, a combination alternative of NGCC and wind, and the no-action alternative. As discussed in Chapter 9, “Conclusion,” of the FSEIS, the NRC has determined that the adverse environmental impacts of license renewal for Seabrook are not so great that preserving the option of license renewal for energy-planning decision makers would be unreasonable. This recommendation is based on: (1) The analysis and findings in the generic environmental impact statement (NUREG-1437), (2) information provided in the environmental report and other documents submitted by NextEra, (3) consultation with Federal, State, local, and Tribal agencies, (4) the NRC staff's independent environmental review, and (5) consideration of public comments received during the scoping process and on the draft supplemental environmental impact statement.

Seabrook is a pressurized-water reactor located approximately 15 miles (24 km) south of Portsmouth, NH. The Seabrook license renewal application, dated May 25, 2010 (ADAMS Package Accession No. ML101590094), as supplemented by letters dated through August 29, 2018, complies with the standards and requirements of the Atomic Energy Act of 1954, as amended (the Act), and the NRC's regulations in Chapter I of Title 10 of the Code of Federal Regulations (10 CFR). As required by the Act and the NRC's regulations, the NRC has made appropriate findings, which it has set forth in the renewed license. On July 21, 2010, the NRC published in the Federal Register a public notice of the proposed issuance of the renewed license for Seabrook. This public notice also included an opportunity to request a hearing (75 FR 42462). No adjudicatory matters are pending before the Commission or the Atomic Safety and Licensing Board regarding the Seabrook license renewal application.

For further details with respect to the issuance of the Seabrook renewed operating license, see: (1) NextEra's license renewal application for Seabrook dated May 25, 2010 (ADAMS Package Accession No. ML101590094), as supplemented by letters through August 29, 2018 (see Appendix B of the NRC's safety evaluation report for the listing of the correspondence between the NRC and NextEra), (2) the NRC's safety evaluation report published on January 2, 2019 (ADAMS Accession No. ML18362A370), (3) the NRC's final supplemental environmental impact statement (NUREG-1437, Supplement 46) for Seabrook license renewal published in July 2015 (ADAMS Accession Nos. ML15209A575 and ML15209A870), and (4) the NRC's record of decision (ADAMS Accession No. ML19002A160).

II. Conclusion

The NRC has determined that NextEra's license renewal application for Seabrook dated May 25, 2010, as supplemented by letters through August 29, 2018, complies with the standards and requirements of the Act, and the NRC's regulations in 10 CFR. As required by the Act and the NRC's regulations, the NRC has made appropriate findings, which are set forth in the renewed license and the ROD. Accordingly, the NRC has issued Renewed Facility Operating License No. NPF-86, authorizing operation of Seabrook through March 15, 2050.

Dated at Rockville, MD, on March 12, 2019.
For the Nuclear Regulatory Commission.
Joseph E. Donoghue,
Acting Director, Division of Materials and License Renewal, Office of Nuclear Reactor Regulation.

[FR Doc. 2019-04821 Filed 3-14-19; 8:45 am]

BILLING CODE 7590-01-P